POSTAL SERVICE

39 CFR Part 111

Electronic Induction (eInduction®) Option

AGENCY: Postal Service™.

ACTION: Final rule.

SUMMARY: The Postal Service will revise Mailing Standards of the United States Postal Service, Domestic Mail Manual (DMM®) to add an option to streamline the processing of drop shipments and expedited plant load mailings.

DATES: Effective Date: March 1, 2017.

FOR FURTHER INFORMATION CONTACT: Heather Dyer at (207) 482-7217 or Jacqueline Erwin at (202) 268-2158.

SUPPLEMENTARY INFORMATION: The Postal Service published a notice of proposed rulemaking on January 9, 2017 (82 FR 2293-2294) to add an option to streamline the processing of drop shipments and expedited plant load mailings, which included a 30-day comment period. The Postal Service received one customer comment.

Comments on Proposed Changes and USPS Response

The Postal Service received 1 formal response on the proposed general language for the eInduction Option proposal. The responder was seeking additional information on a related technical guide to the programming intricacies for qualifying for the eInduction option. Since the general language for the DMM does not include nor will it incorporate technical guidance, the comments are not relevant to this Final Rule. The commentary was shared with the appropriate postal personnel for response.

Summary of Changes To Be Implemented

The Electronic Induction (eInduction®) option is a process that streamlines the preparation and induction (how and where the mail physically enters the Postal Service mailstream) of drop shipments and expedited plant load mailings. eInduction links scans of Intelligent Mail container barcodes (IMcb) to the electronic documentation (eDoc) information, allowing the Postal Service to verify that postage was paid prior to accepting a mailer shipped container. eInduction eliminates the need for paper PS Forms 8125, 8125-CD, 8017, and manual reconciliation at the entry facility. Correct postage payment is verified both at the entry facility and during post-induction processing in PostalOne!.

Mailers who would like to use the eInduction option must meet eligibility requirements and request authorization by contacting the Facility Access Shipping Tracking (FAST®) Helpdesk. Business Mailer Support will provide final authorization. Additional information, including information regarding verification and associated assessments, is provided in Publication 6850, Publication for Streamlined Mail Acceptance for Letters and Flats, available at: https://postalpro.usps.com/node/581.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

700 Special Standards

* * * * *

705 Advanced Preparation and Special Postage Payment Systems

* * * * *

[Add new section 20.0, to read as follows:]

20.0 eInduction Option

20.1 Description

Electronic Induction (eInduction) is an electronic alternative to using the following paper PS Forms: 8125, 8125C, 8125CD, and 8017 for all containers entered at the dock of a processing facility or claiming a Destination Delivery Unit (DDU) discount. eInduction uses Intelligent Mail container barcode (IMcb) scans to determine container payment and delivery status, and verifies payment and entry location by matching IMcb scan data to electronic documentation (eDoc) information. Containers are eligible for eInduction at certain designated facilities. Additional information, including information regarding verification and associated assessments, is provided in Publication 6850, Publication for Streamlined Mail Acceptance for Letters and Flats, at https://postalpro.usps.com/node/581.

20.2 Approval

Mailers may seek authorization to participate in the eInduction program by contacting Business Mailer Support (BMS); see 608.8 for contact information.

20.3 General Eligibility Standards

First-Class Mail, Periodicals, USPS Marketing Mail letters and flats, and Bound Printed Matter presorted or carrier route barcoded flats and packages are eligible for eInduction. All containers entered under eInduction must:

a. Be labeled with a USPS placard and a unique Intelligent Mail container barcode. All required pallets and similar containers (such as all-purpose containers, hampers, and gaylords) and all containers prepared under 8.0 must display container placards that include accurately encoded Intelligent Mail container barcodes (IMcb) as described in 708.6.6. Mailing documentation must indicate each container participating in eInduction.

b. Be part of a mailing using an approved electronic method to transmit a postage statement and mailing documentation to the PostalOne! system.

c. Not include containers included on paper 8125/8017 forms.

d. Be included on a scheduled FAST appointment when entered at a USPS processing facility.

20.4 Additional Standards

20.4.1 Special Support for Continuous Mailers

Mailers who cannot generate a finalized postage statement two hours before container entry may request approval for an eInduction Continuous Mailer ID, (MID). Once approved, mailers using an authorized Continuous MID in the IMcb may enter any container with the approved MID in the IMcb prior to the receipt of electronic documentation. Mailers are required to submit an eDoc and generate a finalized postage statement for all eInduction Continuous MID containers within one calendar day of the unload scan. Mailers may request authorization for a continuous MID through the Business Customer Gateway. The USPS must approve the mailer request before the mailer may participate in the continuous MID process.

* * * * *

We will publish an appropriate amendment to 39 CFR part 111 to reflect these changes.

Stanley F. Mires,
Attorney, Federal Compliance.

[FR Doc. 2017-03912 Filed 2-28-17; 8:45 am]

BILLING CODE 7710-12-P